DEPARTMENT OF ENERGY

Federal Energy Regulatory Commission

[Docket No. ER01-1305-006, et al.]

Westar Generating, Inc., et al.; Electric Rate and Corporate Filings

February 25, 2003.

The following filings have been made with the Commission. The filings are listed in ascending order within each docket classification.

1. Westar Generating, Inc.

[Docket No. ER01-1305-006]

Take notice that on February 20, 2003, Westar Generating, Inc., (WG) submitted for filing a Notice of Withdrawal of First Revised Rate Schedule FERC No. 1 dated February 1, 2003, in Docket No. ER01-1305-006, filed January 31, 2003. WG is withdrawing the referenced filing based on discussions with the Kansas Corporation Commission, and will submit a new filing shortly reflecting these discussions.

Comment Date: March 13, 2003.

2. Illinois Power Company

[Docket No. ER03-249-001]

Take notice that on February 21, 2003, Illinois Power Company (Illinois Power), submitted a response to the Commission's Letter Order dated January 20, 2003 regarding Illinois Power's December 6, 2002 filing of an executed interconnection agreement with Franklin County Power of Illinois.

Comment Date: March 14, 2003.

3. Northern Indiana Public Service Company

[Docket No. ER03-250-001]

Take notice that on February 20, 2003, Northern Indiana Public Service Company, in compliance with the Commission's Order issued on January 21, 2003, is submitted the service agreement designations as required by Order No. 614 for the service agreements on December 6, 2002.

Comment Date: March 13, 2003.

4. Soyland Power Cooperative, Inc.

[Docket No. ER03-289-001]

Take notice that on February 21, 2003, Soyland Power Cooperative, Inc. (Soyland) tendered for filing with the Federal Energy Regulatory Commission (Commission) revised rate schedules in the format required by the Commission's Order No. 614. The filing was made in compliance with the Commission's letter order dated January 21, 2003.

Comment Date: March 14, 2003.

5. San Diego Gas & Electric Company

[Docket No. ER03-548-000]

Take notice that on February 20, 2003, San Diego Gas & Electric Company (SDG&E) tendered for filing its First Revised Service Agreement No. 9 and First Revised Service Agreement No. 11 to SDG&E's FERC Electric Tariff, First Revised Volume No. 6, incorporating revisions to the Expedited Interconnection Facilities Agreement with CalPeak Power Enterprise, LLC and CalPeak Power Border, LLC, (collectively, CalPeak) respectively. The revised Service Agreements implement Internal Revenue Service Notice 2001-82, “Expansion of Safe Harbor Provisions Under Notice 88-129”, which provides that in certain circumstances, regulated public utilities such as SDG&E will not realize income upon contributions by interconnecting electric generators of certain interconnection facilities. The amendment further clarifies terms pertaining to creditworthiness requirements of CalPeak and the guarantor of CalPeak's financial obligations as contemplated by Section 10.22

SDG&E requests an effective date of September 24, 2001 for the Revised Service Agreements, and a waiver of the sixty-day notice requirement of 18 CFR 35.11.

SDG&E states that copies of the filing have been served on CalPeak and on the California Public Utilities Commission.

Comment Date: March 13, 2003.

6. Southern California Edison Company

[Docket No. ER03-549-000]

Take notice that on February 20, 2003, Southern California Edison Company (SCE), tendered for filing revised Service Agreements (Service Agreements) for Wholesale Distribution Service between SCE and City of Azusa, City of Banning, City of Colton, City of Riverside and Southern California Water Company. The Service Agreement serves to provide the terms and conditions under which SCE provides Distribution Service under SCE's FERC Electric Tariff, First Revised Volume No. 5. SCE is proposing revised rates and rate terms. The proposed changes would increase revenues from jurisdictional service by $1,233,175 based on the 12-month period following the effective date. Additionally, SCE is revising the rate terms to be consistent with its proposed rates and proposing to revised the Real Power Loss Factors in the Service Agreements.

SCE states that copies of this filing were served upon the Public Utilities Commission of the State of California and the affected customers.

Comment Date: March 13, 2003.

7. New England Power Pool and ISO New England Inc.

[Docket No. ER03-550-000]

Take notice that on February 21, 2003, ISO New England Inc. and the New England Power Pool (NEPOOL) jointly submitted revisions to NEPOOL Market Rule 1 and Appendix A thereto, under Section 205 of the Federal Power. NEPOOL and ISO New England Inc. have requested an effective date for the proposed changes of April 1, 2003.

NEPOOL states that copies of said filing have been served upon NEPOOL Participants and upon all non-Participant entities that are customers under the NEPOOL Open Access Transmission Tariff, as well as upon the governors and utility regulatory agencies of the six New England States.

Comment Date: March 14, 2003.

8. Baltimore Gas & Electric Company

[Docket No. ER03-551-000]

Take notice that on February 21, 2003, Baltimore Gas and Electric Company (BGE) submitted for filing a restated and revised Interconnection Agreement between BGE and Constellation Power Source Generation, Inc., (CPSG), formerly Constellation Generation, Inc., (CGI), that supercedes the Interconnection Agreement between BGE and CGI filed with the Commission on February 11, 2000 in Docket No. ER00-1598-000 and accepted by the Commission by letter order dated March 29, 2000. The Interconnection Agreement has been revised to reflect a redefined Point of Interconnection for Wagner Unit 4, Constellation Power Source Generation, Inc.'s new legal name, and certain minor corrections in terminology.

BGE seeks an effective date of May 1, 2003 for the revised Interconnection Agreement.

Comment Date: March 14, 2003.

9. New York Independent System Operator, Inc.

[Docket No. ER03-552-000]

Take notice that on February 21, 2003, the New York Independent System Operator, Inc. (NYISO), filed proposed revisions to the NYISO's Open Access Transmission Tariff (OATT) and Market Administration and Control Area Services Tariff (Services Tariff). The proposed filing would amend the NYISO's creditworthiness requirements for participation in the NYISO-administered markets. The NYISO has requested that the Commission make the filing effective on April 30, 2003.

The NYISO has served a copy of this filing to all parties that have executed Service Agreements under the NYISO's OATT or Services Tariff, the New York State Public Services Commission and to the electric utility regulatory agencies in New Jersey and Pennsylvania.

Comment Date: March 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4965 Filed 3-3-03; 8:45 am]

BILLING CODE 6717-01-P